DEPARTMENT OF HEALTH AND HUMAN SERVICES

National Institutes of Health

Request for Information: Comments on the National Institute of Diabetes and Digestive and Kidney Diseases (NIDDK) Draft Strategic Plan

AGENCY: National Institutes of Health, HHS.

ACTION: Notice.

SUMMARY: This Request for Information (RFI) is intended to seek feedback from the public on the draft National Institute of Diabetes and Digestive and Kidney Diseases (NIDDK) Strategic Plan for Research. NIDDK invites input from: The scientific research community; patients and caregivers; health care providers and health advocacy organizations; scientific and professional organizations; federal agencies; and other stakeholders, including interested members of the public. Organizations are strongly encouraged to submit a single response that reflects the views of their organization and their membership as a whole.

DATES: Comments must be received by 11:59:59 p.m. (ET) on August 31, 2021 to ensure consideration.

ADDRESSES: All comments must be submitted electronically on the submission website, available at https://rfi.grants.nih.gov/?s=60fef9beab43000053007ed2.

FOR FURTHER INFORMATION CONTACT: Please direct all inquiries to: Lisa Gansheroff, NIDDKstrategicplan@nih.gov, 301-496-6623.

SUPPLEMENTARY INFORMATION: This Notice is in accordance with the 21st Century Cures Act, NIH institutes are required to regularly update their strategic plans. The NIDDK's ongoing Institute-wide strategic planning process will develop a broad vision for accelerating research into the causes, prevention, and treatment of diseases and conditions within the Institute's mission. This overarching trans-NIDDK Strategic Plan will complement NIDDK's disease-specific planning efforts. The Strategic Plan will have a 5-year time horizon but will also include planning for longer term efforts that could be initiated within this time frame.

External input has been integral to the strategic planning process. NIDDK established a Working Group of Council, comprised of 44 external scientists and patient advocates, including a subset of the members of NIDDK's Advisory Council and others with expertise across the range of NIDDK's mission areas. The Institute also invited broad external input with a public RFI in 2020, and received valuable comments from organizations, individual researchers, people living with diseases in NIDDK's mission, and others. Based on input from the Working Group, the previous RFI, and Council, the Institute has prepared a draft of the Strategic Plan; the draft will be available for public comment through August 31, 2021 via the new RFI at the link above.

NIDDK is committed to empowering a multidisciplinary research community; engaging diverse stakeholders; and leveraging discoveries of connections among diseases across NIDDK's mission to improve prevention, treatment, and health equity—pursuing pathways to health for all. This theme is addressed throughout the draft strategic plan.

The draft Strategic Plan includes five major sections:

• Advance understanding of biological pathways and environmental contributors to health and disease

• Advance pivotal clinical studies and trials for prevention, treatment, and cures in diverse populations

• Advance research to disseminate and implement evidence-based prevention strategies and treatments in clinics and community settings, to improve the health of all people, more rapidly and more effectively

• Advance stakeholder engagement—including patients and other participants as true partners in research

• Promote efficient and effective ways to serve as a trusted steward of public resources and support research for diseases across our mission

NIDDK invites comments on the draft Strategic Plan from: The scientific research community; patients and caregivers; health care providers and health advocacy organizations; scientific and professional organizations; federal agencies; and other stakeholders, including interested members of the public. Organizations are strongly encouraged to submit a single response that reflects the views of their organization and membership as a whole.

Responses to this RFI are voluntary and may be submitted anonymously. Please do not include any information that you do not wish to make public. Proprietary, classified, confidential, or sensitive information should not be included in your response. The Government will use the information submitted in response to this RFI at its discretion. Individual feedback will not be provided to any responder. The Government reserves the right to use any submitted information on public websites, in reports, in summaries of the state of the science, in any possible resultant solicitation(s), grant(s), or cooperative agreement(s), or in the development of future funding opportunity announcements. This RFI is for informational and planning purposes only and is not a solicitation for applications or an obligation on the part of the Government to provide support for any ideas identified in response to it. Please note that the Government will not pay for the preparation of any information submitted or for use of that information. NIDDK looks forward to your input and we hope that you will share this RFI with your colleagues.

Dated: August 11, 2021.
Bruce Tibor Roberts,
Health Science Policy Analyst, Office of Scientific Program and Policy Analysis, National Institute of Diabetes and Digestive and Kidney Diseases, National Institutes of Health.

[FR Doc. 2021-17535 Filed 8-16-21; 8:45 am]

BILLING CODE 4140-01-P